DEPARTMENT OF HEALTH AND HUMAN SERVICES

National Institutes of Health

Office of the Secretary; Notice of Meeting

Pursuant to section 10(a) of the Federal Advisory Committee Act, as amended, notice is hereby given of meetings of the Task Force on Research Specific to Pregnant Women and Lactating Women.

The meetings will be open to the public, with attendance limited to space available. Individuals who plan to attend and need special assistance, such as sign language interpretation or other reasonable accommodations, should notify the Contact Person listed below in advance of the meeting.

Name of Committee: Task Force on Research Specific to Pregnant Women and Lactating Women.

Date: February 26-27, 2018.

Time: February 26, 2018, 8:30 a.m. to 5:00 p.m.; February 27, 2018, 8:00 a.m. to 3:00 p.m.

Agenda: The Task Force is charged with providing advice and guidance to the Secretary of HHS, regarding Federal activities related to identifying and addressing gaps in knowledge and research regarding safe and effective therapies for pregnant women and lactating women, including the development of such therapies and the collaboration on and coordination of such activities.

February 26th, 2018—Day 1

8:30 a.m.—Welcome and Opening Remarks

8:40 a.m.—Introductions

8:45 a.m.—Summary and Discussion of work products from meetings 1 and 2

10:45 a.m.—Follow-up on Task Force Request regarding Lessons learned from Pediatrics

1:15 p.m.—Effective communication strategies with health care providers and the public on information relevant to pregnant women and lactating women

1:50 p.m.—Panel: Effective communication strategies with health care providers on information relevant to pregnant women and lactating women

3:30 p.m.—Panel: Effective communication strategies with the public on information relevant to pregnant women and lactating women.

4:10 p.m.—Discussion

5:00 p.m.—End of Day 1

February 27th, 2018—Day 2

8:00 a.m.—Recap from Day 1, Outline & Goals of Day 2

8:15 a.m.—Panel and open discussion to cover specific questions on the options for a plan or plans to identify and address gaps in knowledge and research regarding safe and effective therapies for pregnant women and lactating women, including the development of such therapies.

12:45 p.m.—Discussion of Key Points related to topic: Effective communication strategies with health care providers and the public on information relevant to pregnant women and lactating women

1:30 p.m.—Discussion of Key Points related to topic: A plan to identify and address gaps in knowledge and research regarding safe and effective therapies for pregnant women and lactating women, including the development of such therapies

2:15 p.m.—Review of Recommendations from TF1-3

2:45 p.m.—Action Items, Charge to Group

3:00 p.m.—Adjournment

Place: 6710B Rockledge Drive, Room 1425/1427 (1st Floor), Bethesda, MD 20817.

Contact Person: Ms. Lisa Kaeser, Executive Secretary, Eunice Kennedy Shriver National Institute of Child Health and Human Development, 31 Center Drive, Room 2A03, MSC 2425, Bethesda, MD 20892, (301) 496-0536, kaeserl@mail.nih.gov.

Public comments are welcome either by filing written comments and/or providing oral comments at the meeting. Oral comments from the public will be scheduled on February 26, 2018, from approximately 10:00 a.m.-10:45 a.m. Any member of the public interested in presenting oral comments on February 26, 2018, should submit a letter of intent, a brief description of the organization represented, and the oral presentation to Ms. Lisa Kaeser (Kaeserl@mail.nih.gov) by 5:00 p.m. on Monday, February 19, 2018. Written comments to be included at the meeting should also be sent to Lisa Kaeser by 5:00 p.m. on Monday, February 19, 2018.

The submitted presentations and any written comments will be formatted to be posted on the PRGLAC website for the record. Only one representative of an organization may be allowed to present oral comments. Presentations will be limited to three to five minutes per speaker depending on the number of speakers to be accommodated within the allotted time. Speakers will be assigned a time to speak in the order of the date and time when their request to speak is received. Both printed and electronic copies are requested for the record.

Details and additional information about these meetings can be found at the NICHD website for the Task Force on Research Specific to Pregnant Women and Lactating Women (PRGLAC) https://www.nichd.nih.gov/about/advisory/PRGLAC/Pages/index.aspx.

Dated: January 17, 2018.
Michelle Trout,
Analyst, Office of Federal Advisory Committee Policy.

[FR Doc. 2018-01082 Filed 1-22-18; 8:45 am]

BILLING CODE 4140-01-P